DEPARTMENT OF THE TREASURY

Treasury Advisory Committee on Commercial Operations of the U.S. Customs Service; Meeting

AGENCY: Department Offices, Treasury.

ACTION: Notice of meeting.

SUMMARY: This notice announces the date and time for the next meeting and the provisional agenda for consideration by the Committee.

DATES: The next meeting of the Treasury Advisory Committee on Commercial Operations of the U.S. Customs Service will be held on Friday, May 5, 2000 at 8:30 a.m. at the Seaport Hotel, One Seaport Lane, Boston, MA 02210, Tel.: (617) 385-4000 or 1-877-SEAPORT. The duration of the meeting will be approximately four hours.

FOR FURTHER INFORMATION CONTACT: Dennis M. O'Connell, Director, Office of Tariff and Trade Affairs, Office of the Under Secretary (Enforcement), Room 4004, Department of the Treasury, 1500 Pennsylvania Avenue, N.W., Washington, D.C. 20220. Tel.: (202) 622-0220. Final meeting details, including the meeting time, location, and agenda, can be confirmed by contacting the office indicated above one week prior to the meeting date.

Agenda

At the May 5, 2000 session, the regular quarterly meeting of the Advisory Committee, the Committee is expected to pursue the following agenda. The agenda may be modified prior to the meeting.

1. Reports on Subcommittee progress:

(a) Study of Merchandise Processing Fee

(b) Study of Compliance Assessment Team (CAT) methodology

2. Customs entry procedure revision project (ERP)

3. Update on Automation

4. Status of the “Tin Man” in-bond program and discussion of the results of the statistical sampling.

SUPPLEMENTARY INFORMATION: The meeting is open to the public; however, participation in the Committee's deliberations is limited to Committee members and Customs and Treasury Department staff. A person other than an Advisory Committee member who wishes to attend the meeting should give advance notice by contacting Theresa Manning at (202) 622-0220, no later than April 28, 2000.

Dated: April 14, 2000.
Dennis M. O'Connell,
Acting Deputy Assistant Secretary (Regulatory, Tariff, and Trade Enforcement).

[FR Doc. 00-9879 Filed 4-19-00; 8:45 am]

BILLING CODE 4810-25-M